DEPARTMENT OF DEFENSE

Office of the Secretary

[Docket ID DoD-2021-OS-0036]

Proposed Collection; Comment Request

AGENCY: Defense Counterintelligence and Security Agency, Department of Defense (DoD).

ACTION: Information collection notice.

SUMMARY: In compliance with the Paperwork Reduction Act of 1995, the Defense Counterintelligence and Security Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 16, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Counterintelligence and Security Agency, Defense Counterintelligence and Security Agency, 27130 Telegraph Road, Quantico, VA 22134; ATTN: Ms. Valerie Heil, or call 703-692-3754.

SUPPLEMENTARY INFORMATION: Title; Associated Form; and OMB Number: Defense Information System for Security; OMB Control Number 0704-0573.

Needs and Uses: This information collection is necessary as the DISS system requires personal data collection to facilitate the initiation, investigation and adjudication of information relevant to DoD security clearances and employment suitability determinations for active duty military, civilian employees and contractors requiring such credentials. As a Personnel Security System it is the authoritative source for clearance information resulting in accesses determinations to sensitive/classified information and facilities.

Affected Public: Individuals or households.

Annual Burden Hours: 333,375.

Number of Respondents: 22,225.

Responses per Respondent: 45.

Annual Responses: 1,000,125.

Average Burden per Response: 20 minutes.

Frequency: On occasion.

The Defense Information System for Security (DISS) is a DoD personnel security system and is the authoritative source for clearance information resulting in access determinations to sensitive/classified information and facilities. Collection and maintenance of personal data in DISS is required to facilitate the initiation, investigation and adjudication of information relevant to DoD security clearances and employment suitability determinations for active duty military, civilian employees, and contractors requiring such credentials. Facility Security Officers (FSOs) working in private companies that contract with DoD and who need access to the DISS system to update security-related information about their company's employees must complete DD Form 2962 (OMB Control Number 0704-0542). Specific uses include: Facilitation for DoD Adjudicators and Security Managers to obtain accurate up-to-date eligibility and access information on all personnel (military, civilian and contractor personnel) adjudicated by the DoD. The DoD Adjudicators and Security Managers are also able to update eligibility and access levels of military, civilian and contractor personnel nominated for access to sensitive DoD information. Once granted access, the FSOs maintain employee personal information, submit requests for investigations, and submit other relevant personnel security information into DISS on over 1,000,000 contract employees annually.

Dated: May 12, 2021.
Kayyonne T. Marston,
Alternate OSD Federal Register Liaison Officer, Department of Defense.

[FR Doc. 2021-10344 Filed 5-14-21; 8:45 am]

BILLING CODE 5001-06-P